DEPARTMENT OF AGRICULTURE

Rural Utilities Service

Rock Springs Generation, LLC; Notice of Finding of No Significant Impact

AGENCY: Rural Utilities Service, USDA.

ACTION: Notice of finding of no significant impact.

SUMMARY: Notice is hereby given that the Rural Utilities Service (RUS) has made a finding of no significant impact with respect to the development of a 1,020-megawatt, natural gas fired combustion turbine electric generation plant in Cecil County, Maryland, by Old Dominion Electric Cooperative and Outwater Limited Funding Partnership. RUS may provide financing for the plant to an affiliate of Old Dominion Electric Cooperative to be known as the Rock Springs Generation, LLC. The specifics of that entity have yet to be determined. The plant will be named the Rock Springs Generation Station. Rock Springs Generation, LLC, will initially own one-half of the plant (510 megawatts).

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: The plant will be located in the community of Rock Springs, in northwestern Cecil County, Maryland, at the intersection of Old Mill Road and U.S. Route 222. The plant comprises six, 170-megawatt, gas-fired General Electric Frame 7FA combustion turbines. Each combustion turbine will have a 75-foot exhaust stack. The entire plant will be situated on approximately 26 acres of the 93-acre site. No major natural gas pipeline or electric transmission line improvements will be needed beyond the proposed site boundaries. A short electric transmission line span will be constructed on a 5-acre parcel owned by Rock Springs Generation, LLC adjacent to the plant site to tie the plant to an existing 500 kilovolt transmission line located southwest of Old Mill Road.

Copies of the Finding of No Significant Impact are available from RUS at the address provided herein or from Mr. David Smith of Old Dominion Electric Cooperative, Insbrook Corporate Center, 4201 Dominion Boulevard; Glen Allen, Virginia 23060, telephone (804) 968-4045. Mr. Smith's e-mail address is dsmith@odec.com.

Dated: May 7, 2001.
Blaine D. Stockton,
Assistant Administrator, Electric Program.

[FR Doc. 01-11936 Filed 5-10-01; 8:45 am]

BILLING CODE 3410-15-P